DEPARTMENT OF TRANSPORTATION

Federal Motor Carrier Safety Administration

[Docket No. FMCSA-2018-0333]

Agency Information Collection Activities; Revision of a Currently-Approved Information Collection: Motor Carrier Identification Report

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to revise an ICR titled, “Motor Carrier Identification Report,” which is used to identify FMCSA regulated entities, help prioritize the agency's activities, aid in assessing the safety outcomes of those activities, and for statistical purposes. This ICR is being revised due to a final rule dated January 17, 2017, titled, “Unified Registration System; Suspension of Effectiveness,” effective January 14, 2017, which suspended its regulations requiring existing interstate motor carriers, freight forwarders, brokers, intermodal equipment providers (IEPs), hazardous materials safety permit (HMSP) applicants, and cargo tank facilities under FMCSA jurisdiction to submit required registration and biennial update information to the Agency via a new electronic on-line Unified Registration System (URS). During this suspension, entities needing to file will follow the same procedures and forms used to submit information to FMCSA as they did prior to January 14, 2017, including use of Form MCS-150 or MCS-150B. The Form MCS-150 or MCS-150B will also be used by the small number of Mexico-domiciled motor carriers that seek authority to operate beyond the United States municipalities on the United States-Mexico border and their commercial zones.

This ICR is necessary to ensure regulated entities are registered with the DOT.

DATES: We must receive your comments on or before April 8, 2019.

ADDRESSES: You may submit comments identified by Federal Docket Management System (FDMS) Docket Number FMCSA-2018-0333 using any of the following methods:

• Federal eRulemaking Portal: http://www.regulations.gov. Follow the online instructions for submitting comments.

• Fax: 1-202-493-2251.

• Mail: Docket Operations; U.S. Department of Transportation, 1200 New Jersey Avenue SE., West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. e.t., Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Mr. Jeffrey Secrist, Office of Registration and Safety Information, Department of Transportation, FMCSA, West Building 6th Floor, 1200 New Jersey Avenue SE, Washington, DC 20590. Telephone: 202-385-2367; email Jeffrey.secrist@dot.gov.

SUPPLEMENTARY INFORMATION:

Background: Title 49, United States Code Section 504(b)(2) provides the Secretary of Transportation (Secretary) with authority to require carriers, lessors, associations, or classes of these entities to file annual, periodic, and special reports containing answers to questions asked by the Secretary. The Secretary may also prescribe the form of records required to be prepared or compiled and the time period during which records must be preserved (See § 504(b)(1) and (d)). FMCSA will use this data to administer its safety programs using a database of entities that are subject to its regulations. This database necessitates that these entities notify FMCSA of their existence. For example, under 49 CFR 390.19(a), FMCSA requires all motor carriers beginning operations to file a Form MCS-150 titled, “Motor Carrier Identification Report,” or MCS-150B titled, “Combined Motor Carrier Identification Report and HM Permit Applications.” This report is filed by all motor carriers conducting operations in interstate, intrastate transporting hazardous materials or international commerce before beginning operations. It asks the respondent to provide the name of the business entity that owns and controls the motor carrier operation; address and telephone of principal place of business; assigned identification number(s), type of operation, types of cargo usually transported; number of vehicles owned, term leased and trip leased; driver information; and certification statement signed by an individual authorized to sign documents on behalf of the business entity.

Section 350 of the Department of Transportation and Related Agencies Appropriations Act, 2002, Public Law 107-87, 115 Stat. 833, 864-866 (December 18, 2001) (49 U.S.C. 13902 note), directed the Agency to issue an interim final rule (IFR) to ensure that new entrant motor carriers are knowledgeable about the Federal Motor Carrier Safety Regulations (FMCSRs) and standards. On August 28, 2002, the Agency published an IFR titled, “Registration Enforcement” (67 FR 31978).

Existing applicants will use the MCS-150 or MCS-150B to update their information in the Motor Carrier Management Information System. Applicants filing for the first time will be required to file on-line. Form MCS-150 or MCS-150B will be used for Mexico-domiciled carriers that seek authority to operate beyond the United States municipalities on the United States-Mexico border and their commercial zones. The information collected from the respondents is readily available to the public. This revised ICR captures the burden of continued use of the MCS-150 or MCS-150B for motor carriers updating their registration information and for the registration of Mexico-domiciled carriers.

The hazardous material declarations, Class 3A, Class 3B, and Div. 2.2 (Ammonia), are being removed. They are obsolete and do not require new or existing applicants to identify those declarations when applying for a USDOT number as a hazardous materials motor carrier.

The remaining hazardous materials entries on the forms and their respective instructions are being redesignated alphabetically to reflect the removal of the Class 3A, Class 3B, and Div. 2.2 (Ammonia) entries.

In the Filing Options section of the instructions for the forms, the Agency name is corrected.

In the hazardous materials list in the instructions for the forms, the entry for Combustible Liquid is revised to correct the 49 CFR reference.

The instructions for the forms are being revised to clarify the definitions of “Intrastate Hazmat Carrier” and “Intrastate Non-Hazmat Carrier.”

Title: Motor Carrier Identification Report

OMB Control Number: 2126-0013.

Type of Request: Revision of a currently-approved collection.

Respondents: Motor carriers, freight forwarders, intermodal equipment providers, brokers, motor carriers with hazardous materials safety permit, cargo tank facilities and Mexican motor carriers.

Estimated Number of Responses: 679,651 responses [674,674 responses for 1C-1 + 3,299 responses for 1C-2 + 1,678 responses for 1C-3].

Estimated Time per Response: 20 minutes for new filings and 7.5 minutes for biennial updates and changes to complete the Form MCS-150.

Expiration Date: April 30, 2019.

Frequency of Response: On occasion and biennially.

Estimated Total Annual Burden: 119,878 hours [119,071 hours for IC-1 + 278 hours for IC-2 + 529 hours for IC-3].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87.
Kelly Regal,
Associate Administrator for Office of Research and Information Technology.

[FR Doc. 2019-01277 Filed 2-5-19; 8:45 am]

BILLING CODE 4910-EX-P